DEPARTMENT OF LABOR

Employment and Training Administration

Crystalline Silicon Photovoltaic (CSPV) Cells (Whether or Not Partially or Fully Assembled Into Other Products)

AGENCY: Employment and Training Administration (ETA), Labor.

ACTION: Publication of summary of the Department of Labor's report on the investigation.

SUMMARY: Section 224(b) of the Trade Act of 1974 (“Trade Act”) requires the United States Department of Labor (“Department”) to publish in the Federal Register a summary of each report that it submits to the President under section 224(a) of the Trade Act. Set forth below is a summary of the report that the Department submitted to the President on November 28, 2017, on investigation No. TA-201-75, Crystalline Silicon Photovoltaic (CSPV) Cells (Whether or Not Partially or Fully Assembled Into Other Products). The Department conducted the investigation under section 224(a) following notification by the International Trade Commission (“Commission”), as required by section 202(a)(3) of the Trade Act, that a petition was filed alleging that CSPV cells (Whether or Not Partially or Fully Assembled Into Other Products) are being imported into the United States in such increased quantities as to be a substantial cause of serious injury, or threat thereof, to the domestic industry producing an article like or directly competitive with the imported article. Pursuant to section 224(a), the Department will investigate: (1) The number of workers in the domestic industry producing the like or directly competitive article(s) who have been or are likely to be certified as eligible for adjustment assistance, and (2) the extent to which the adjustment of such workers to the import competition may be facilitated through the use of existing programs. The full text of the report will be posted on the Department's Web site at https://www.doleta.gov/tradeact.

DATES: November 28, 2017: Transmittal of the Department's report to the President.

ADDRESSES: United States Department of Labor, 200 Constitution Avenue NW., Washington, DC 20210. The public report may be viewed on the Department's Web site at https://www.doleta.gov/tradeact.

FOR FURTHER INFORMATION CONTACT: Norris Tyler, Administrator, Office of Trade Adjustment Assistance, Employment and Training Administration, U.S. Department of Labor, 200 Constitution Avenue NW., Washington, DC 20210; Telephone: (202) 693-3560 (this is not a toll-free number). The media should contact Egan Reich, Office of Public Affairs, on (202) 693-4960, or reich.egan@dol.gov. Congressional inquiries may be directed to Byron Anderson, Office of Congressional and Intergovernmental Affairs, on (202) 693-4600, or anderson.byron.e@dol.gov.

SUPPLEMENTARY INFORMATION: Procedural Summary: On September 22, 2017, the Commission issued an affirmative determination under Section 202(b)(1) of the Trade Act of 1974 in its safeguard investigation No. TA-201-75, Crystalline Silicon Photovoltaic (CSPV) Cells (Whether or Not Partially or Fully Assembled Into Other Products). The Commission submitted a report to the President on November 13, 2017, which can be found on https://www.usitc.gov. A summary was also published in the Federal Register (82 FR 55393 (November 21, 2017)).

Section 202(c)(1) of the Trade Act directs the Department to report to the President certain information whenever the Commission makes a finding under Section 202 of the Trade Act. The Department's report to the President studies the following:

(1) The number of workers in the domestic industry (CSPV products) producing the like or directly competitive article who have been or are likely to be certified as eligible for adjustment assistance; and

(2) The extent to which the adjustment of workers to the import competition may be facilitated through the use of existing programs.

While these estimates accurately reflect the scope of this report as required under statute, the Department's investigation is a much narrower focus on the production of solely CSPV cells and CSPV modules. The petitioners maintain that imposing tariffs or other remedies on solar components will boost U.S. manufacturing jobs. However, it should be noted that currently only a relatively small number of solar jobs (about 38,000) are in manufacturing. The 2016 census of solar workers, conducted by the Solar Energy Industries Association, found that about 260,000 workers were employed by the solar industry in 2016. Some reports indicate that a substantial number of additional jobs, including those in the residential, nonresidential/commercial, and utility sectors may be lost.

The Department's study on CSPV cells as required under Section 224 found the following:

1. The Department has received Trade Adjustment Assistance (TAA) petitions for 20 worker groups involved in the production of CSPV since January 2012. Seventeen of those worker groups were certified as eligible to apply for TAA, resulting in an estimated 2,124 workers eligible to apply for individual benefits under the TAA Program.

2. The Department estimates that 562 additional workers are likely to be covered by certified TAA petitions before the end of the year 2019, which includes 230 CSPV cell producers and 332 module producers.

3. Sufficient funding is available to provide TAA benefits and services to these workers. In FY 2017, the Department provided $391 million to states to provide training and other activities for TAA participants, as well as $294 million in funding for Trade Readjustment Allowances, and $31 million in Reemployment Trade Adjustment Assistance funds.

4. The Department believes that training and benefits under the Trade Act, other Department programs, and programs at other federal agencies are sufficient to assist workers in the CSPV industry to adjust to the trade impact.

As required by Section 224(f)(1) of the Trade Act (19 U.S.C. 2274(f)(1)), the Department will provide notice of an affirmative determination by the Commission to State Workforce Agencies, as the Governor's representative, representatives of the domestic industry, other firms identified by name during the proceedings, and any recognized worker representatives.

Finally, once the Commission's findings and the Department's report are provided to the President, the President may impose relief in the form of increased duties and/or other restrictions on imports of CSPV under Section 203 of the Trade Act (19 U.S.C. 2253).

Nancy M. Rooney,
Deputy Assistant Secretary for Employment and Training.

[FR Doc. 2017-26261 Filed 12-5-17; 8:45 am]

BILLING CODE 4510-FN-P